DEPARTMENT OF AGRICULTURE

Forest Service

Information Collection; Request for Comments; Aviation Forms

AGENCY: Forest Service, USDA.

ACTION: Notice.

SUMMARY: In accordance with the Paperwork Reduction Act of 1995, the Forest Service is seeking comments from all interested individuals and organizations on the reinstatement of the currently approved collection for four aviation forms that assist in the documentation of pilot and aircraft qualifications, approval, and data records. These Office of Management and Budget approved forms include (1) FS-5700-20, Airplane Pilot Qualifications and Approval Record; (2) FS-5700-20a, Helicopter Pilot Qualifications and Approval Record; (3) FS-5700-21, Airplane Data Record; and (4) FS-5700-21a, Helicopter Data Record.

DATES: Comments must be received in writing on or before March 8, 2005, to be assured of consideration. Comments received after that date will be considered to the extent practicable.

ADDRESSES: Comments concerning this notice should be addressed to John Nelson, Fire and Aviation Management, Mail Stop 1107, Forest Service, USDA, 1400 Independence Avenue, Washington, DC 20250-0003.

Comments also may be submitted via facsimile to (202) 205-1401 or by e-mail to: janelson03@fs.fed.us.

The public may inspect comments received at the Office of Fire and Aviation Management, Yates Building, 2 SW., Forest Service, USDA 201 Independence Ave. SW., Washington, DC, during normal business hours. Visitors are encouraged to call ahead to (202) 205-0995 to facilitate entry to the building.

FOR FURTHER INFORMATION CONTACT: John Nelson, Aviation Management Specialist at (202) 205-0995. Individuals who use telecommunication devices for the deaf (TDD) may call the Federal Relay Service (FRS) at 1-800-877-8339 twenty-four hours a day, every day of the year, including holidays.

SUPPLEMENTARY INFORMATION: Title: FS-5700-20, Airplane Pilot Qualifications and Approval Record; FS-5700-20a, Helicopter Pilot Qualifications and Approval Record; FS-5700-21, Airplane Data Record; and FS-5700-21a, Helicopter Data Record.

OMB Number: 0596-0015.

Expiration Date of Approval: January 31, 2005.

Type of Request: Reinstatement with revision to the FS-5700-20, Airplane Pilot Qualifications and Approval Record; FS-5700-20a, Helicopter Pilot Qualifications and Approval Record, including electronic versions.

Abstract: The Forest Service (FS) contracts with approximately 400 vendors for aviation services that are utilized in resource protection and project management. Total annual use of contract aircraft and pilots in recent years has exceeded 100,000 hours. Hence, in order to maintain an acceptable level of safety, mission preparedness, and cost effectiveness in aviation operations, Forest Service contracts call for rigorous qualifications for pilots and specific conditions, equipment and performance requirements for aircraft. Aviation operations are conducted under extremely adverse conditions of weather, terrain, turbulence, smoke-reduced visibility, minimally improved landing areas, and congested airspace around wildfires.

To ensure agency contracting officers that the pilots and aircraft for aviation operations meet the specific Forest Service qualifications and other requirements for aviation operations, prospective contract pilots must provide information on the FS-5700-20, Airplane Pilot Qualifications and Approval Record, and FS-5700-20(a), Helicopter Pilot Qualifications and Approval Record. Contract Officers' Technical Representatives use FS-5700-21, Airplane Data Record, and FS-5700-21(a), Helicopter Data Record, when inspecting the aircraft for contract compliance. A portion of the completed form is furnished to the contractor as proof of compliance.

Without the information supplied, Forest Service contracting officers and pilot and aircraft inspectors cannot determine if pilots and aircraft meet the detailed qualification, equipment, and condition requirements essential to safe, effective accomplishment of Forest Service specified flying missions. Without reasonable basis to determine pilot qualifications and aircraft capability, Forest Service employees using these resources would be unnecessarily exposed to flying hazards.

The completed forms are maintained in Forest Service Regional headquarters under the care of the Regional aviation pilot and aircraft inspectors. Copies of the forms may be shared with the Office of Aircraft Services, Department of Interior, since each organization accepts contract inspections conducted by the other as meeting their own requirements. The data collected from these forms will be used to document the basis for approval of contract pilots and aircraft for specific Forest Service aviation missions. Based upon the approvals documented on these forms, approval cards are issued to each contractor pilot and for each contractor aircraft. Forest Service personnel verify possession of properly approved cards before using contracted pilots and aircraft. Information will be collected and reviewed by Contracting Officers or their representatives, including aircraft inspectors, and will represent data that determines whether the aircraft and/or pilots meet all contract specifications in accordance with FSH 5709.16, Chapter 10, section 16.

Estimate of Annual Burden:

(1) FS-5700-20, Airplane Pilot Qualifications and Approval Record: 25 minutes.

(2) FS-5700-20a, Helicopter Pilot Qualifications and Approval Record: 25 minutes.

(3) FS-5700-21, Airplane Data Record: 35 minutes.

(4) FS-5700-21a, Helicopter Data Record: 35 minutes.

Type of Respondents: Aircraft vendors that wish to contract with the federal government for aircraft services and pilots.

Estimated Annual Number of Respondents: 2,100.

Estimated Annual Number of Responses per Respondent: 1.

Estimated Total Annual Burden on Respondents: 1,058 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Dated: January 3, 2005.
Robin L. Thompson,
Associate Deputy Chief, State and Private Forestry.

[FR Doc. 05-307 Filed 1-6-05; 8:45 am]

BILLING CODE 3410-11-P